DEPARTMENT OF THE INTERIOR

Bureau of Indian Affairs

Notice of Intent To Prepare an Environmental Impact Statement for the North Fork Rancheria's Proposed Trust Acquisition and Hotel/Casino Project, Madera County, California; Correction

AGENCY: Bureau of Indian Affairs, Interior.

ACTION: Notice.

SUMMARY: This notice advises the public of a correction to the Bureau of Indian Affairs' (BIA) Notice of Intent to prepare an Environmental Impact Statement (EIS) for the North Fork Rancheria's Proposed Trust Acquisition and Hotel/Casino Project, Madera County, California, published in the Federal Register on October 27, 2004 (69 FR 62721), which described the proposed action. The October notice is corrected to include statements concerning project alternatives, which are provided in the SUPPLEMENTARY INFORMATION section.

This notice also re-opens public scoping to identify potential issues, concerns and alternatives to be considered in the EIS.

DATES: Written comments must arrive by May 6, 2005.

ADDRESSES: You may mail or hand carry written comments to Clay Gregory, Regional Director, Pacific Regional Office, Bureau of Indian Affairs, 2800 Cottage Way, Sacramento, California 95825.

FOR FURTHER INFORMATION CONTACT: John Rydzik, (916) 978-6042.

SUPPLEMENTARY INFORMATION: The proposed action and a reasonable range of alternatives, including a no-action alternative, will be analyzed in the EIS. Other possible alternatives currently under consideration are a reduced-intensity alternative, an alternate-use alternative and an off-site alternative. The range of issues and alternatives may be expanded based on comments received during the scoping process. Additional supplemental information, including maps of the project site, may be obtained from John Rydzik at (916) 978-6042.

Public Comment Availability

Comments, including names and addresses of respondents, will be available for public review at the BIA address shown in the ADDRESSES section during business hours, 8 a.m. to 4:30 p.m., Monday through Friday, except holidays. Individual respondents may request confidentiality. If you wish us to withhold your name and/or address from public review or from disclosure under the Freedom of Information Act, you must state this prominently at the beginning of your written comment. Such requests will be honored to the extent allowed by the law. We will not, however, consider anonymous comments. All submissions from organizations or businesses, and from individuals identifying themselves as representatives or officials of organizations or businesses, will be made available for public inspection in their entirety.

Authority

This notice is published in accordance with section 1503.1 of the Council of Environmental Quality Regulations (40 CFR parts 1500 through 1508) implementing the procedural requirements of the National Environmental Policy Act of 1969, as amended (42 U.S.C. 4371 et seq.), Department of the Interior Manual (516 DM 1-6), and is in the exercise of authority delegated to the Principal Deputy Assistant Secretary—Indian Affairs by 209 DM 8.1.

Dated: March 2, 2005.
Michael D. Olsen,
Acting Principal Deputy Assistant Secretary—Indian Affairs.

[FR Doc. 05-6732 Filed 4-5-05; 8:45 am]

BILLING CODE 4310-W7-P